DEPARTMENT OF TRANSPORTATION

Coast Guard

33 CFR Part 117

[CGD01-01-146]

Drawbridge Operation Regulations: Long Island, New York Inland Waterway From East Rockaway Inlet to Shinnecock Canal, NY

AGENCY: Coast Guard, DOT.

ACTION: Notice of temporary deviation from regulations.

SUMMARY: The Commander, First Coast Guard District, has issued a temporary deviation for the Atlantic Beach Bridge, at mile 0.4, across the Reynolds Channel in New York. This deviation from the regulations allows the bridge to remain closed at various times between September 11, 2001 and October 30, 2001, to facilitate maintenance at the bridge.

DATES: This deviation is effective from September 11, 2001 through October 30, 2001.

FOR FURTHER INFORMATION CONTACT: Joe Schmied, Project Officer, First Coast Guard District, at (212) 668-7165.

SUPPLEMENTARY INFORMATION: The Atlantic Beach Bridge, mile 0.4, across the Reynolds Channel has a vertical clearance of 25 feet at mean high water, and 30 feet at mean low water in the closed position. The existing operating regulations are listed at 33 CFR 117.799(e).

The bridge owner, the Nassau County Bridge Authority, requested a temporary deviation from the operating regulations to facilitate necessary submarine power cable replacement, install new span lock machinery, and replace the bridge deck surface at the bridge.

This deviation to the operating regulations, in effect from September 11, 2001 through October 30, 2001, allows the Atlantic Beach Bridge to operate as follows:

(a) Remain closed from 8 a.m. on September 11, 2001 through 8 a.m. on September 15, 2001.

(b) Remain closed from 11 p.m. to 5 a.m., Monday through Friday, October 9, 2001 through October 24, 2001.

(c) Open only on the hour after at least a one-hour advance notice is given from 8 a.m. to 4:30 p.m., Monday through Friday, from September 24, 2001 through October 30, 2001.

(d) Open only one of the two spans for the passage of vessel traffic from 8 a.m. to 4:30 p.m. from October 1, 2001 through October 8, 2001.

This deviation from the operating regulations is authorized under 33 CFR 117.35 and will be performed with all due speed in order to return the bridge to normal operation as soon as possible.

Dated: August 30, 2001.
G.N. Naccara,
Rear Admiral, U.S. Coast Guard, Commander, First Coast Guard District.

[FR Doc. 01-22985 Filed 9-12-01; 8:45 am]

BILLING CODE 4910-15-P